DEPARTMENT OF HOMELAND SECURITY

Federal Emergency Management Agency

[Docket ID FEMA-2019-0002]

Final Flood Hazard Determinations

AGENCY: Federal Emergency Management Agency, DHS.

ACTION: Notice.

SUMMARY: Flood hazard determinations, which may include additions or modifications of Base Flood Elevations (BFEs), base flood depths, Special Flood Hazard Area (SFHA) boundaries or zone designations, or regulatory floodways on the Flood Insurance Rate Maps (FIRMs) and where applicable, in the supporting Flood Insurance Study (FIS) reports have been made final for the communities listed in the table below.

The FIRM and FIS report are the basis of the floodplain management measures that a community is required either to adopt or to show evidence of having in effect in order to qualify or remain qualified for participation in the Federal Emergency Management Agency's (FEMA's) National Flood Insurance Program (NFIP). In addition, the FIRM and FIS report are used by insurance agents and others to calculate appropriate flood insurance premium rates for buildings and the contents of those buildings.

DATES: The date of June 7, 2019 has been established for the FIRM and, where applicable, the supporting FIS report showing the new or modified flood hazard information for each community.

ADDRESSES: The FIRM, and if applicable, the FIS report containing the final flood hazard information for each community is available for inspection at the respective Community Map Repository address listed in the tables below and will be available online through the FEMA Map Service Center at https://msc.fema.gov by the date indicated above.

FOR FURTHER INFORMATION CONTACT: Rick Sacbibit, Chief, Engineering Services Branch, Federal Insurance and Mitigation Administration, FEMA, 400 C Street SW, Washington, DC 20472, (202) 646-7659, or (email) patrick.sacbibit@fema.dhs.gov; or visit the FEMA Map Information eXchange (FMIX) online at https://www.floodmaps.fema.gov/fhm/fmx_main.html.

SUPPLEMENTARY INFORMATION: The Federal Emergency Management Agency (FEMA) makes the final determinations listed below for the new or modified flood hazard information for each community listed. Notification of these changes has been published in newspapers of local circulation and 90 days have elapsed since that publication. The Deputy Associate Administrator for Insurance and Mitigation has resolved any appeals resulting from this notification.

This final notice is issued in accordance with section 110 of the Flood Disaster Protection Act of 1973, 42 U.S.C. 4104, and 44 CFR part 67. FEMA has developed criteria for floodplain management in floodprone areas in accordance with 44 CFR part 60.

Interested lessees and owners of real property are encouraged to review the new or revised FIRM and FIS report available at the address cited below for each community or online through the FEMA Map Service Center at https://msc.fema.gov.

The flood hazard determinations are made final in the watersheds and/or communities listed in the table below.

(Catalog of Federal Domestic Assistance No. 97.022, “Flood Insurance.”)

Michael M. Grimm,
Assistant Administrator for Risk Management, Department of Homeland Security, Federal Emergency Management Agency.

Community | Community map repository address
Pulaski County, Arkansas and Incorporated Areas | Docket No.: FEMA-B-1709
City of Jacksonville | City Hall, 1 Municipal Drive, Jacksonville, AR 72076.
City of Little Rock | Public Works Administration Building, 701 West Markham Street, Little Rock, AR 72201.
Unincorporated Areas of Pulaski County | Pulaski County Public Works, 3200 Brown Street, Little Rock, AR 72204.
Cherokee County, Georgia and Incorporated Areas | Docket No.: FEMA-B-1763
City of Canton | City Hall, 151 Elizabeth Street, Canton, GA 30114.
City of Holly Springs | City Hall, 3237 Holly Springs Parkway, Holly Springs, GA, 30115.
City of Waleska | City Hall, 8891 Fincher Road, Waleska, GA 30183.
City of Woodstock | City Hall, 12453 Highway 92, Woodstock, GA 30188.
Unincorporated Areas of Cherokee County | Cherokee County Board of Commissioners, 1130 Bluffs Parkway, Canton, GA 30114.
Columbia County, Georgia and Incorporated Areas | Docket No.: FEMA-B-1802
City of Grovetown | City Hall, 103 Old Wrightsboro Road, Grovetown, GA 30813.
City of Harlem | City Hall, 320 North Louisville Street, Harlem, GA 30814.
Unincorporated Areas of Columbia County | Columbia County Environmental Services Department, Engineering Services Division, 630 Ronald Reagan Drive, Building A, East Wing, Evans, GA 30809.
Floyd County, Georgia and Incorporated Areas | Docket No.: FEMA-B-1753
City of Rome | City Hall, 601 Broad Street, Rome, GA 30161.
Unincorporated Areas of Floyd County | Historic Floyd County Courthouse, 4 Government Plaza, Rome, GA 30161.
Forsyth County, Georgia and Incorporated Areas | Docket No.: FEMA-B-1753
Unincorporated Areas of Forsyth County | Forsyth County Administrative Building, 110 East Main Street, Suite 120, Cumming, GA 30040.
Paulding County, Georgia and Incorporated Areas | Docket No.: FEMA-B-1753
City of Dallas | City Hall, 129 East Memorial Drive, Dallas, GA 30132.
Unincorporated Areas of Paulding County | Paulding County Development Division, 240 Constitution Boulevard, 1st Floor, Dallas, GA 30132.
Polk County, Georgia and Incorporated Areas | Docket No.: FEMA-B-1753
City of Rockmart | City Hall, 316 North Piedmont Avenue, Building 100, Rockmart, GA 30153.
Unincorporated Areas of Polk County | Polk County Building Inspection Department, 144 West Avenue, Suite C, Cedartown, GA 30125.
Canyon County, Idaho and Incorporated Areas | Docket No.: FEMA-B-1703
City of Caldwell | City Hall, 621 Cleveland Boulevard, 2nd Floor, Caldwell, ID 83605.
City of Middleton | City Hall, 1103 West Main Street, Middleton, ID 83644.
City of Notus | City Hall, 375 Notus Road, Notus, ID 83656.
City of Parma | City Hall, 305 North 3rd Street, Parma, ID 83660.
City of Star | City Hall, 10769 West State Street, Star, ID 83669.
Unincorporated Areas of Canyon County | Canyon County Administration Building, 111 North 11th Avenue, Room 101, Caldwell, ID 83605.
Erie County, New York (All Jurisdictions) | Docket No.: FEMA-B-1800
Town of Amherst | Amherst Town Hall, 5583 Main Street, Williamsville, NY 14221.
Canadian County, Oklahoma and Incorporated Areas | Docket No.: FEMA-B-1771
City of Piedmont | City Hall, 314 Edmond Road Northwest, Piedmont, OK 73078.
Garfield County, Oklahoma and Incorporated Areas | Docket No.: FEMA-B-1771
City of Enid | City Hall, 401 West Owen K. Garriott Road, Enid, OK 73701.
Unincorporated Areas of Garfield County | Garfield County Courthouse, 114 West Broadway, Room 105, Enid, OK 73701.
Kingfisher County, Oklahoma and Incorporated Areas | Docket No.: FEMA-B-1771
City of Kingfisher | City Hall, 301 North Main Street, Kingfisher, OK 73750.
Unincorporated Areas of Kingfisher County | Kingfisher County Courthouse, 101 South Main Street, Kingfisher, OK 73750.
Logan County, Oklahoma and Incorporated Areas | Docket No.: FEMA-B-1771
Unincorporated Areas of Logan County | Logan County Courthouse Annex, 312 East Harrison Street, Guthrie, OK 73044.
Jefferson County, Washington and Incorporated Areas | Docket Nos.: FEMA-B-1659 and FEMA-B-1815
City of Port Townsend | City Hall, 250 Madison Street, Suite 2, Port Townsend, WA 98368.
Hoh Indian Tribe | Hoh Indian Tribe Natural Resources Department, 2267 Lower Hoh Road, Forks, WA 98331.
Unincorporated Areas of Jefferson County | Jefferson County Department of Community Development, 621 Sheridan Street, Port Townsend, WA 98368.

[FR Doc. 2019-04871 Filed 3-14-19; 8:45 am]

BILLING CODE 9110-12-P